DEPARTMENT OF HEALTH AND HUMAN SERVICES

Substance Abuse and Mental Health Services Administration

Meeting of the Substance Abuse and Mental Health Services Administration's National Advisory Council

AGENCY: Substance Abuse and Mental Health Services Administration, HHS.

ACTION: Notice.

SUMMARY: Notice is hereby given of the meeting on March 22, 2021, of the Substance Abuse and Mental Health Services Administration's (SAMHSA) National Advisory Council (SAMHSA NAC).

The meeting is open to the public and can only be accessed virtually. Agenda with call-in information will be posted on the SAMHSA website prior to the meeting at: https://www.samhsa.gov/about-us/advisory-councils/meetings. The meeting will include remarks and discussion with the Acting Assistant Secretary for Mental Health and Substance Use; updates on SAMHSA priorities, new grant opportunities and initiatives, and a council discussion on clinical trends and emerging national issues with SAMHSA NAC members.

DATES: March 22, 2021, 1:00 p.m. to approximately 5:00 p.m. (ET)/Open.

ADDRESSES: The meeting will be held virtually.

FOR FURTHER INFORMATION CONTACT: Carlos Castillo, Committee Management Officer and Designated Federal Official, SAMHSA National Advisory Council, 5600 Fishers Lane, Rockville, Maryland 20857 (mail), Telephone: (240) 276-2787 Email: carlos.castillo@samhsa.hhs.gov. Valerie Kolick, Acting Designated Federal Officer, SAMHSA National Advisory Council, 5600 Fishers Lane, Rockville, Maryland 20857, Telephone: (240) 276-1738, Email: valerie.kolick@samhsa.hhs.gov.

SUPPLEMENTARY INFORMATION: The SAMHSA NAC was established to advise the Secretary, Department of Health and Human Services (HHS), and the Assistant Secretary for Mental Health and Substance Use, SAMHSA, to improve the provision of treatments and related services to individuals with respect to substance use and to improve prevention services, promote mental health, and protect legal rights of individuals with mental illness and individuals who are substance users.

Interested persons may present data, information, or views orally or in writing, on issues pending before the Council. Written submissions must be forwarded to the contact person no later than seven days before the meeting. Oral presentations from the public will be scheduled at the conclusion of the meeting. Individuals interested in making oral presentations must notify the contact person by March 12, 2021. Up to three minutes will be allotted for each presentation, and as time permits.

To obtain the call-in number, access code, and/or web access link; submit written or brief oral comments; or request special accommodations for persons with disabilities, please register on-line at: https://snacregister.samhsa.gov/MeetingList.aspx, or communicate with SAMHSA's Committee Management Officer, CAPT Carlos Castillo.

Meeting information and a roster of Council members may be obtained either by accessing the SAMHSA Council's website at http://www.samhsa.gov/about-us/advisory-councils/, or by contacting Carlos Castillo or Valerie Kolick.

Council Name: Substance Abuse and Mental Health Services Administration National Advisory Council.

Authority: Public Law 92-463.

Dated: February 17, 2021.
Carlos Castillo,
Committee Management Officer, SAMHSA.

[FR Doc. 2021-03573 Filed 2-22-21; 8:45 am]

BILLING CODE 4162-20-P